FEDERAL LABOR RELATIONS AUTHORITY

Senior Executive Service Performance Review Board

AGENCY: Federal Labor Relations Authority.

ACTION: Notice.

SUMMARY: The Federal Labor Relations Authority (FLRA) publishes the names of the persons selected to serve on its SES Performance Review Board (PRB) and Executive Resources Board (ERB). This notice supersedes all previous notices of the PRB and ERB membership.

DATES: Upon publication.

ADDRESSES: Written comments about this final rule can be mailed to the Case Intake and Publication Office, Federal Labor Relations Authority, 1400 K Street NW, Washington, DC 20424. All written comments will be available for public inspection during normal business hours at the Case Intake and Publication Office.

FOR FURTHER INFORMATION CONTACT: Michael Jeffries, Executive Director, Federal Labor Relations Authority, 1400 K St. NW, Washington, DC 20424, (771) 444-5868, mjeffries@flra.gov.

SUPPLEMENTARY INFORMATION: Section 4314(c) of Title 5, U.S.C. requires each agency to establish one or more PRBs. The PRB shall review and evaluate the initial appraisal of a senior executive's performance by the supervisor, along with any response by the senior executive, and make recommendations to the final rating authority relative to the performance of the senior executive.

The persons named below have been selected to serve on the FLRA's PRB.

PRB Chairman:

Michael Jeffries, Executive Director, FLRA

PRB Members:

Kimberly Moseley, Executive Director, Federal Service Impasses Panel

Thomas Tso, Solicitor, FLRA

James J. Daley, Deputy General Counsel, FLRA

Karen Gorman, Principal Deputy Special Counsel, OSC

Leslie C. Bayless, Chief Operating Officer, Federal Mine Safety and Health Review Commission

Section 3393(b) of Title 5, U.S.C. requires each agency to establish one or more ERBs. ERBs sha conduct merit staffing processes for career appointees, including reviewing the executive qualifications of each candidate for a position to be filled by a career appointee; and making written recommendations to the appropriate appointing authority concerning such candidates.

The persons named below have been selected to serve on the FLRA's ERB.

ERB Chairman:

Colleen Duffy Kiko, Chairman, FLRA

ERB Members:

Anne Wagner, Member, FLRA

Thomas Tso, Solicitor, FLRA

James J. Daley, Deputy General Counsel, FLRA

Dated: August 11, 2025.
Rebecca J. Osborne,
Federal Register Liaison.

[FR Doc. 2025-15389 Filed 8-12-25; 8:45 am]

BILLING CODE P